DEPARTMENT OF JUSTICE

Antitrust Division

Notice Pursuant to the National Cooperative Research and Production Act of 1993-National Armaments Consortium

Notice is hereby given that, on November 5, 2019, pursuant to Section 6(a) of the National Cooperative Research and Production Act of 1993, 15 U.S.C. 4301 et seq. (“the Act”), National Armaments Consortium (“NAC”) has filed written notifications simultaneously with the Attorney General and the Federal Trade Commission disclosing changes in its membership. The notifications were filed for the purpose of extending the Act's provisions limiting the recovery of antitrust plaintiffs to actual damages under specified circumstances. Specifically, 50 BMG Supply LLC, Canton, OH; Advanced Technology Systems Company, Inc. (ATSC), McLean, VA; Amron—A Division of AMTEC Corporation, Antigo, WI; Anthem Engineering, Elkridge, MD; ARTEMIS, Inc., Hauppauge, NY; Atlas Business Consulting, Inc., Irvine, CA; Avionic Instruments, LLC, Avenel, NJ; Beatty and Company Computing, Inc., Southlake, TX; B-Skies, Inc., Ellicott City, MD; Calumet Electronics Corporation, Calumet, MI; Canvas, Inc., Huntsville, AL; Chenega Defense & Aerospace Solutions, LLC, Huntsville, AL; Cova Strategies, LLC, Albuquerque, NM; Daylight Defense, LLC, San Diego, CA; DC Photonics LLC, Lucas, TX; DCS Corporation, Alexandria, VA; Dynamic Research Technologies, LLC, Albany, MO; Edaptive Computing, Inc., Dayton, OH; Fibertek, Inc., Herndon, VA; Frequency Electronics, Inc., Uniondale, NY; G&W Products, LLC, Fairfield, OH; GE Energy Power Conversion, Naval Systems Inc., Cranberry Township, PA; Geissele Automatics LLC, North Wales, PA; Global Tungsten and Powders Corporation, Towanda, PA; Goleta Star, LLC, Santa Barbara, CA; Hamilton Sundstrand Corporation, Rockford, IL; IAI North America, Inc., Arlington, VA; IMT Defense Corporation, Westerville, OH; Interlog Corporation, Anaheim, CA; Intevac Photonics, Inc., Santa Clara, CA; Iquro Development Group, LLC, Sheridan, WY; Jasper Solutions Inc., Huntington Station, NY; JET Systems, LLC, Lexington Park, MD; JetCo Solutions, Grand Rapids, MI; Lacamas Laboratories, Inc., Portland, OR; Mass XV Limited Liability Company, Yorktown, VA; Mid-Continent Instrument Co., Inc., Wichita, KS; Military Battery Systems, Inc., Golden, CO; National Center for Defense Manufacturing and Machining (NCDMM), Blairsville, PA; Navitas Systems, Ann Arbor, MI; NexTech Solutions, Orange Park, FL; Neya Systems, LLC, Wexford, PA; NNData Corporation, Alexandria, VA; Northrop Grumman Systems Corporation, Power/Control Systems, Sykesville, MD; ODAT Machine Inc., Gorham, ME; OFS Laboratories, LLC, Somerset, NJ; Optimax Systems, Inc., Ontario, NY; Per Vivo Labs, Inc., Kingsport, TN; Persistent Systems, LLC, New York, NY; Perspecta Engineering Inc., Chantilly, VA; Phantom Products, Inc., Rockledge, FL; Pictorvision, Inc., Simi Valley, CA; Quadrus Corporation, Huntsville, AL; Radical Firearms, LLC, Stafford, TX; Rolls-Royce North American Technologies, Inc. (LibertyWorks), Indianapolis, IN; Sancorp Consulting, LLC, Arlington, VA; Scientific Systems Company, Inc., Woburn, MA; Shipcom Federal Solutions, LLC, Arlington, VA; Southern Innovative Investments, LLC, Montgomery, AL; Space Information Laboratories, LLC, Santa Maria, CA; Spectral Energies, LLC, Beavercreek, OH; Systems & Technology Research LLC, Woburn, MA; Tangram Flex, Inc., Dayton, OH; Trion Coatings LLC, South Bend, IN; University of Massachusetts (Center for UMass-Industry Research on Polymers), Amherst, MA; Utah State University Research Foundation dba Space Dynamics Laboratory, North Logan, UT; Uvision-USA Corporation, Purcellville, VA; VES, LLC, Aberdeen Proving Ground, MD; VRC Metal Systems, LLC, Rapid City, SD; W R Systems, Ltd., Fairfax, VA; and Wavefront Vision Inc., Basking Ridge, NJ, have been added as parties to this venture.

Also, Adolf Meller Co dba Meller Optics Inc., Providence, RI; All Points Logistics, LLC, Merritt Island, FL; Arconic Defense Inc., New Kensington, PA; Ascent Vision Technologies, LLC, Belgrade, MT; ATS-MER, LLC, Tucson, AZ; Avineon, Inc., McLean, VA; Calculagraph Co DBA Control Products, Inc., Horsham, PA; Contego Research, LLC, Webb City, MO; DroneShield LLC, Warrenton, VA; Fairwinds Technologies, LLC, Annapolis, MD; JWF Defense Systems, LLC, Johnstown, PA; Molex, LLC, Lisle, IL; nanoMetallix LLC, Saint Louis, MO; NAVSYS Corporation, Colorado Springs, CO; NextGen Federal Systems, LLC, Morgantown, VA; Nufern, East Granby, CT; Orbis Sibro, Inc., Charleston, SC; PPI-Time Zero, Inc., Fairfield, NJ; Riptide Autonomous Solutions, Plymouth, MA; SAZE Technologies, LLC, Silver Spring, MD; SMH International, LLC, Mt. Laurel, NJ; TELEGRID Technologies, Inc., Florham Park, NJ; TORC Robotics, Inc., Blacksburg, VA; Total Reliant Consulting, Boerne, TX; and UTEC Corporation, LLC, Norman, OK, have withdrawn as parties to this venture.

No other changes have been made in either the membership or planned activity of the group research project. Membership in this group research project remains open, and NAC intends to file additional written notifications disclosing all changes in membership.

On May 2, 2000, NAC filed its original notification pursuant to Section 6(a) of the Act. The Department of Justice published a notice in the Federal Register pursuant to Section 6(b) of the Act on June 30, 2000 (65 FR 40693).

The last notification was filed with the Department on July 8, 2019. A notice was published in the Federal Register pursuant to Section 6(b) of the Act on September 4, 2019 (84 FR 46565).

Suzanne Morris,
Chief, Premerger and Division Statistics Unit Antitrust Division.

[FR Doc. 2019-26654 Filed 12-10-19; 8:45 am]

BILLING CODE 4410-11-P